DEPARTMENT OF HEALTH AND HUMAN SERVICES

Centers for Disease Control and Prevention

Disease, Disability, and Injury Prevention and Control Special Emphasis Panel (SEP): Initial Review

In accordance with Section 10(a)(2) of the Federal Advisory Committee Act (Pub. L. 92-463), the Centers for Disease Control and Prevention (CDC) announces a meeting for the initial review of applications in response to Special Interest Project (SIP) 16-001, Evaluating the Adoption and Implementation of an Evidence-based Patient Navigation Intervention for Colonoscopy Screening, SIP 16-002, Formative Development of an Instrument to Predict Adherence to Active Surveillance (AS) for Localized Prostate Cancer, and SIP 16-003, Implementation of Community-based, Small Media Interventions to Promote Colorectal Cancer Screening Among Chinese Americans.

Time and Date: 11:00 a.m.-6:00 p.m., EDT, April 21, 2016 (Closed).

Place: Teleconference.

Status: The meeting will be closed to the public in accordance with provisions set forth in Section 552b(c)(4) and (6), Title 5 U.S.C., and the Determination of the Director, Management Analysis and Services Office, CDC, pursuant to Public Law 92-463.

Matters for Discussion: The meeting will include the initial review, discussion, and evaluation of applications received in response to “Evaluating the Adoption and Implementation of an Evidence-based Patient Navigation Intervention for Colonoscopy Screening”, SIP 16-001, “Formative Development of an Instrument to Predict Adherence to Active Surveillance (AS) for Localized Prostate Cancer”, SIP 16-002 and, “Implementation of Community-based, Small Media Interventions to Promote Colorectal Cancer”, SIP 16-003.

Contact Person for More Information: Jaya Raman Ph.D., Scientific Review Officer, CDC, 4770 Buford Highway, Mailstop F80, Atlanta, Georgia 30341, Telephone: (770) 488-6511, kva5@cdc.gov.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2016-06354 Filed 3-21-16; 8:45 am]

BILLING CODE 4163-18-P